DEPARTMENT OF THE INTERIOR

Bureau of Land Management

[WY-920-1430-ET; WYW 162499]

Public Land Order No. 7744; Withdrawal of National Forest System Land for Inyan Kara Area; WY

AGENCY: Bureau of Land Management, Interior.

ACTION: Public Land Order.

SUMMARY: This order withdraws 1,278.09 acres of National Forest System land from location and entry under the United States mining laws for a period of 20 years on behalf of the United States Forest Service to protect the Inyan Kara area of the Black Hills National Forest in Crook County, Wyoming. The land has been and will remain open to mineral leasing and to all other forms of disposition which may by law be made of National Forest System land.

DATES: Effective Date: July 19, 2010.

FOR FURTHER INFORMATION CONTACT: Janelle Wrigley, BLM Wyoming State Office, 5353 N. Yellowstone Road, P.O. Box 1828, Cheyenne, Wyoming 82003, 307-775-6257.

SUPPLEMENTARY INFORMATION: The United States Forest Service will manage the land to protect and preserve the significant historic and prehistoric Native American cultural and archeological sites known as the Inyan Kara area within the Black Hills National Forest. The land will also be managed for its unusual scenic and geological characteristics.

Order

By virtue of the authority vested in the Secretary of the Interior by Section 204 of the Federal Land Policy and Management Act of 1976, 43 U.S.C. 1714, it is ordered as follows:

1. Subject to valid existing rights, the following described National Forest System land is hereby withdrawn from location and entry under the United States mining laws, 30 U.S.C. Ch. 2, but not from the mineral leasing laws or other forms of disposition which may by law be made of National Forest System land, to protect the Inyan Kara area of the Black Hills National Forest:

Sixth Principal Meridian

T. 49 N., R. 62 W.,

Sec. 19, lots 1 to 4, inclusive, E½, and E½W½;

Sec. 30, lots 1 and 2, N½NE¼, and E½NW¼.

T. 49 N., R. 63 W.,

Sec. 24, E½E½;

Sec. 25, NE¼ and N½SE¼.

The area described contains 1,278.09 acres, more or less, in Crook County.

2. The withdrawal made by this order does not alter the applicability of those public land laws governing the use of National Forest System land other than the mining laws (30 U.S.C. Ch. 2).

3. This withdrawal will expire 20 years from the effective date of this order unless, as a result of a review conducted before the expiration date pursuant to Section 204(f) of the Federal Land Policy and Management Act of 1976, 43 U.S.C. 1714(f), the Secretary determines that the withdrawal shall be extended.

Dated: June 30, 2010.
Wilma A. Lewis,
Assistant Secretary—Land and Minerals Management.

[FR Doc. 2010-17528 Filed 7-16-10; 8:45 am]

BILLING CODE 3410-11-P